DEPARTMENT OF LABOR

Employment and Training Administration

[TA-W-56,149]

Honeywell International, Transportation Systems/Friction Materials Division, Cleveland, TN; Notice of Revised Determination of Alternative Trade Adjustment Assistance on Reconsideration

The Department issued a Notice of Affirmative Determination Regarding Application for Reconsideration for workers and former workers of the subject firm on March 1, 2005. The Notice will soon be published in the Federal Register.

The petitioner asserts in the request for reconsideration that the workers of the subject firm possess skills which are not easily transferable to other jobs in the local commuting area.

New information provided by the company official indicates that the workers possess skills that are not easily transferable to other jobs in the local commuting area and that competitive conditions within the industry are adverse.

The Department found during initial investigation that at least five percent of the workforce at the subject from is at least fifty years of age.

Conclusion

After careful review of the additional facts obtained on reconsideration, I conclude that the requirements of Section 246 of the Trade Act of 1974, as amended, have been met for workers at the subject firm.

In accordance with the provisions of the Act, I make the following certification:

All workers of Honeywell International, Transportation Systems/Friction Material Division, Cleveland, Tennessee, who became totally or partially separated from employment on or after December 3, 2003 through December 20, 2006, are eligible to apply for adjustment assistance under Section 223 of the Trade Act of 1974, and are also eligible to apply for alternative trade adjustment assistance under Section 246 of the Trade Act of 1974.

Signed in Washington, DC, this 9th day of March 2005.
Elliott S. Kushner,
Certifying Officer, Division of Trade Adjustment Assistance.

[FR Doc. E5-1238 Filed 3-21-05; 8:45 am]

BILLING CODE 4510-30-P